NATIONAL AERONAUTICS AND SPACE ADMINISTRATION

Notice of Meeting

AGENCY: National Aeronautics and Space Administration.

ACTION: Notice of meeting.

SUMMARY: NASA will conduct an open forum meeting to solicit questions, views and opinions of interested persons or firms concerning NASA's procurement policies, practices, and initiatives. The purpose of the meeting is to have an open discussion between NASA's Assistant Administrator for Procurement, industry, and the public.

Note: This is not a meeting about how to do business with NASA for new firms, nor will it focus on small businesses or specific contracting opportunities. Position papers are not being solicited.

DATES: Wednesday, March 8, 2006, from 1 p.m. to 3 p.m.

ADDRESSES: The meeting will be held at NASA Johnson Space Center's Robert R. Gilruth Center in the Lone Star Room (second floor of Gilruth Center), Houston, TX 77058. Please access the Gilruth Center through Gate 5 off of Space Center Boulevard (view map at http://jsc-web-pub.jsc.nasa.gov/bd01/Index.htm).

FOR FURTHER INFORMATION CONTACT: Barbara Kirkland, NASA Johnson Space Center, Mail Code BD35, Houston, TX 77058, (281) 483-4512 or (281) 483-4511, e-mail: barbara.j.kirkland@nasa.gov.

SUPPLEMENTARY INFORMATION: Admittance: Admittance will be on a first-come, first-served basis. Room capacity is limited to approximately 90 persons; therefore, a maximum of two representatives per firm is requested. No reservations will be accepted. Access/visitor badging is not required.

Format: There will be a presentation by the Assistant Administrator for Procurement, followed by a question and answer period. Questions for the open forum should be presented at the meeting and should not be submitted in advance.

Tom Luedtke,
Assistant Administrator for Procurement.

[FR Doc. E6-1152 Filed 1-30-06; 8:45 am]

BILLING CODE 7510-13-P